FEDERAL COMMUNICATIONS COMMISSION

Notice of Public Information Collection(s) Being Reviewed by the Federal Communications Commission for Extension Under Delegated Authority, Comments Requested

June 12, 2008.

SUMMARY: The Federal Communications Commission, as part of its continuing effort to reduce paperwork burden invites the general public and other Federal agencies to take this opportunity to comment on the following information collection(s), as required by the Paperwork Reduction Act of 1995, 44 U.S.C. 3501—3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments August 18, 2008. If you anticipate that you will be submitting comments, but find it difficult to do so within the period of time allowed by this notice, you should advise the contact listed below as soon as possible.

ADDRESSES: Direct all PRA comments to Nicholas A. Fraser, Office of Management and Budget (OMB), (202) 395-5887, or via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an email to Judith B. Herman at 202-418-0214.

SUPPLEMENTARY INFORMATION: OMB Control No.: 3060-1118.

Title: DTV Retailer Site Visit Program.

Form No.: N/A.

Type of Review: Extension of a currently approved collection.

Respondents: Business or other for-profit.

Number of Respondents: 1,450 respondents; 1,450 responses.

Estimated Time Per Response: .25 hours.

Frequency of Response: 25 interviews a week for 52 weeks (on occasion reporting requirement).

Obligation To Respond: Voluntary.

Total Annual Burden: 325 hours.

Annual Cost Burden: N/A.

Privacy Act Impact Assessment: N/A.

Nature and Extent of Confidentiality: There is no need for confidentiality.

Needs and Uses: This collection will be submitted as an extension (no change in reporting requirements) after this 60 day comment period to Office of Management and Budget (OMB) in order to obtain the full three year clearance.

The Commission requested and obtained emergency approval for this information collection on June 11, 2008 from the Office of Management and Budget. The emergency OMB approval ends in six months, therefore, the Commission is now seeking the full three year clearance from them.

On February 19, 2008, the Commission adopted a Report and Order in MB Docket No. 07-148, FCC 08-56, concerning the DTV Consumer Education Initiative. The Report and Order noted that many retailers have agreed to participate in the National Telecommunications and Information Agency (NTIA) digital-to-analog converter box coupon program. Those retailers claim to have undertaken significant employee training initiatives regarding the converter box program and the digital television transition. Among other things, the Report and Order offered the Commission's assistance to the NTIA to assess those training efforts. In this regard, the Commission's Enforcement Bureau field agents will regularly visit participating retailer stores across the country. They will conduct on-the-spot interviews with retail managers to ascertain whether retailers who participate in the converter box coupon program are fulfilling their commitment to engage in extensive employee training and consumer outreach education. The interview will consist of a series of questions to assess employee training and consumer education efforts and whether the retailers' objectives are being met at stores. The interview is not part of an official FCC investigation and no penalty would result from the interview. The information collected will be forwarded to FCC Headquarters to be consolidated into an aggregated report that will then be forwarded to NTIA for its review and appropriate action. This collection of information is needed to ensure that the American public is adequately prepared for the digital television transition.

While the Commission will be the collection point for the information with regard to the retailers, the information collected will be passed on to NTIA for review and appropriate action. As retailers provide direct contact with customers and provide customers with information regarding the capabilities of the equipment they are purchasing, they will play a central role in educating the public on the DTV transition.

The government has a substantial interest in ensuring that the public is fully informed about the DTV transition and the steps necessary to continue receiving over-the-air broadcast signals after the transition. The interviews are another step in ensuring that the American public is adequately prepared for the digital television transition.

Federal Communications Commission.
Marlene H. Dortch,
Secretary.

[FR Doc. E8-13896 Filed 6-18-08; 8:45 am]

BILLING CODE 6712-01-P